DEPARTMENT OF STATE

[Public Notice: 12249]

Exchange Visitor Program

ACTION: Special Student Relief Notification: extension of temporary waiver and modification of certain regulatory requirements.

SUMMARY: In accordance with the General Provisions of the Exchange Visitor Program regulations, the Assistant Secretary for Educational and Cultural Affairs (ECA), U.S. Department of State extends the waiver and modification of certain regulatory requirements with respect to a temporary educational and cultural exchange program established pursuant to an arrangement between the Government of the United States and the Government of Ukraine. Under the original arrangement for Special Student Relief, eligible Ukrainian college and university students on J-1 visas who have continuously resided in the United States since April 11, 2022, could carry lighter course loads and work full- or part- time, on or off campus until October 23, 2023. Under the modified and extended arrangement, eligible Ukrainian college and university students on J-1 visas who have continuously resided in the United States since August 16, 2023, may carry lighter course loads and work full- or part-time, on or off campus until April 19, 2025. This arrangement was established to ameliorate these students' financial and other hardships due to the Russian invasion of Ukraine.

DATES: The extension and modification of SSR was effective on October 20, 2023 and will now remain in effect until April 19, 2025, unless the U.S. Government unilaterally ends the arrangement early or the U.S. Government and the Government of Ukraine together extend its termination date.

FOR FURTHER INFORMATION CONTACT: Rebecca A. Pasini, Deputy Assistant Secretary, Directorate of Private Sector Exchange, Bureau of Educational and Cultural Affairs, at 2200 C Street NW, SA-5, Washington, DC 20522 or by telephone at (202) 826-4364 or via email at JExchanges@state.gov.

SUPPLEMENTARY INFORMATION: The Assistant Secretary for Educational and Cultural Affairs extends the waiver and modification of certain regulatory requirements with respect to a temporary educational and cultural exchange program established pursuant to an arrangement between the Government of the United States and the Government of Ukraine for Special Student Relief (SSR). This arrangement was initially established through an exchange of notes on June 14 and August 18, 2022. [The initial terms of the Special Student Relief program were published in the Federal Register on April 5, 2023 (88 FR 20202-20203).] Consistent with that arrangement, the Assistant Secretary temporarily waived or modified relevant provisions in 22 CFR part 62.23, such that eligible Ukrainian college and university students on J-1 visas to the United States were able to carry lighter course loads and work full- or part- time, on or off campus, through October 23, 2023.

Under the modified arrangement with the Government of Ukraine, SSR is expanded to apply to eligible Ukrainian college and university students on J-1 visas who have continuously resided in the United States since at least August 16, 2023, consistent with the extension of Temporary Protected Status (TPS) for Ukraine. Similarly, under the extension of the arrangement, SSR is extended to remain in effect until April 19, 2025.

Under the modified and extended arrangement, the temporary waiver and modification of relevant portions of 22 CFR part 62.23 will continue as described in 88 FR 20202-20203, except that eligible individuals must have continuously resided in the United States since at least August 16, 2023.

Responsible Officers of academic institutions may authorize SSR for Ukrainian college and university students in J-1 status if they have continuously resided in the United States since at least August 16, 2023, and meet the reduced course load requirements set forth in the Notice at 88 FR 20202. To authorize on-campus or off-campus employment for these students, Responsible Officers should update the students' records in the Student and Exchange Visitor Information System (SEVIS) by notating the following text in the “Remarks” field: “Special Student Relief work authorization granted until April 19, 2025.” To authorize a reduced course load due to such employment, Responsible Officers should also notate the “Comment” field in the SEVIS record with the following text: “reduced course load authorized.” Responsible Officers should monitor students at the start of each term to confirm that students seeking to reduce their course loads intend to work more than 20 hours a week or that students who availed themselves of reduced course loads intend to continue to work more than 20 hours a week.

If the arrangement between the United States and Ukraine is terminated early or extended again, Responsible Officers should update the Remarks field accordingly. Exchange visitors participating in SSR at the time the arrangement ends may continue their current employment and course load through the end of the academic term during which the arrangement ends.

Rebecca A. Pasini,
Deputy Assistant Secretary, Directorate of Private Sector Exchange, Bureau of Educational and Cultural Affairs, U.S. Department of State.

[FR Doc. 2023-24014 Filed 10-30-23; 8:45 am]

BILLING CODE 4710-05-P